DEPARTMENT OF THE INTERIOR

Bureau of Land Management

[CO-14000-01-1610-DU]

Resource Management Plan Amendment

AGENCY: Bureau of Land Management, Glenwood Springs Field Office, Department of the Interior.

ACTION: Notice of Intent to Prepare a Fire Management Plan and Environmental Assessment (EA) and Amend the Glenwood Springs Field Office Resource Management Plan (RMP).

SUMMARY: The Bureau of Land Management (BLM) Glenwood Springs Field Office (GSFO) has fire protection responsibility on more than 550,000 acres of public land in Eagle, Garfield, Pitkin, Routt, Mesa and Rio Blanco Counties in Colorado. A fire management plan (FMP) plan will provide managers and the public a framework for managing wildland fire and prescribing vegetation treatments. The Environmental Assessment (EA) will serve as the analysis for implementing wildland fire management. Public lands will be managed under one of four management catagories for purposes of wildland fire management. The description of these categories follows:

A. The values in these areas are threatened by all types of fire. Fires will be aggressively suppressed and no prescribed fire management would be planned. Mechanical and/or chemical fuel treatments would be utilized to reduce hazard fuel loadings in this zone.

B. These areas also have values that are threatened by wildfires, but might benefit from the careful application of fire. Wildfires will be aggressively suppressed, but prescribed fire with other fuel treatment reduction methods (mechanical or chemical) will be considered as a management alternative in certain situations.

C. The natural resource values in these areas are not significantly threatened or benefitted by wildfires. Wildfires will be managed by an appropriate management response (AMR) as provided for in the FMP. Suppression options will range from aggressive suppression, to a nonaggressive containment action that considers least cost as a primary consideration. Predetermined constraints (ecological, air quality, political, fire load, time of year, etc.) will be included in a wildfire situation analysis (WFSA) to help the line officer in decision making. These areas do contain values that may benefit from the application of fire, so prescribed fires will be an option for natural resource management. Mechanical and/or chemical fuel treatments could also be utilized to reduce hazard fuel loadings in this zone.

D. These areas have no natural resource values that are threatened by wildfires, and contain some natural resources that would benefit from fire, both wildfire and prescribed fire. If pre-existing conditions are met (ecological, air quality, political, fire load, time of year, etc.) wildfires may be allowed to burn without suppression actions to benefit natural resources. Fires that are suppressed will be managed with the AMR range of alternatives. A WFSA will be conducted on all fires where aggressive suppression does not take place, the line officer's decision will be documented. Prescribed fire will also be a management alternative to meet resource objectives. Mechanical and/or chemical fuel treatments could also be utilized to reduce hazard fuel loadings.

DATES: The BLM can best utilize your input if you submit comments pertaining to important values, wildland fire management and prescribed (fire, mechanical and chemical) vegetation treatments before June 30, 2001. Public meetings (dates to be announced) are tentatively planned for Eagle, Glenwood Springs and Rifle, Colorado.

ADDRESSES: Comments should be sent to the Field Manager—Fire Management Plan, Glenwood Springs Field Office, Bureau of Land Management, 50629 Highway 6 & 24, P.O. Box 1009, Glenwood Springs, CO 81602.

FOR FURTHER INFORMATION CONTACT: Requests to be placed on a mailing list and notified of public meetings should be mailed to the address above. You can also telephone Brian Hopkins at (970) 947-2840 or e-mail him at bhopkins@co.blm.gov. Documents and maps relevant to the planning process will be available for public review at the Glenwood Springs Field Office and, as feasible, available on the Glenwood Springs Field Office website at http://www.co.blm.gov/gsra/gshome.htm.

SUPPLEMENTARY INFORMATION: FMPs are being updated to comply with the 1995 Federal Wildland Fire Management Policy and the 2001 Review and Update of the 1995 Federal Wildland Fire Management Policy. The Policy directs Field Offices to have an approved FMP for every area with burnable vegetation. In addition, land uses, land issues and vegetation (fuels) have changed since the completion of the 1984 RMP, especially along the private land—public land interface. The GSFO FMP will update fire and vegetation management in light of these changes.

The goals of the FMP are to address issues including: (1) Human safety; (2) Protection of improvements, property, cultural resources, threatened or endangered species and high value resources; (3) Return fire to its natural role in the ecosystem; (4) Protection and enhancement of other natural resources; (5) Hazardous fuel reduction; and (6) Fiscal efficiency of fire management operations.

We will provide opportunities for local governments, state agencies and the public to participate in the planning process. Individuals will have the opportunity to attend public meetings, write letters, telephone and meet directly with the interdisciplinary planning team.

Anne Huebner,
Glenwood Springs Field Manager.

[FR Doc. 01-13120 Filed 5-23-01; 8:45 am]

BILLING CODE 4310-JB-P